DEPARTMENT OF TRANSPORTATION

Federal Transit Administration

Supplemental Environmental Impact Statement on the Buffalo Inner Harbor Project, New York

AGENCY: Federal Transit Administration, DOT.

ACTION: Notice of Intent to prepare a Supplemental Environmental Impact Statement.

SUMMARY: The Federal Transit Administration (FTA) is issuing this notice to advise the public and interested agencies that a Supplemental Environmental Impact Statement (SEIS) will be prepared by the FTA and the Niagara Frontier Transportation Authority (NFTA) on the Buffalo Inner Harbor Project. This Supplemental EIS is in response to a court order and is limited in scope to the issue of historic preservation. The SEIS will address events and information that became available subsequent to the final EIS (FEIS), which was issued February 12, 1999.

The Preservation Coalition filed a civil action on October 6, 1999, in the United States District Court for the Western District of New York under civil action number 99-CV-745S against FTA, NFTA, the New York State Thruway Authority, Empire State Development Corporation (ESDC), and the New York State Office of Parks, Recreation, and Historic Preservation. ESDC is the project sponsor. The Preservation Coalition challenged the Buffalo Inner Harbor Project on environmental and historic preservation grounds. On March 31, 2000, District Court Judge William M. Skretny ordered that a SEIS be prepared to consider the information learned during archaeological investigations conducted after the FEIS.

DATES: The court established a compressed timetable for completion of a draft and final SEIS. A draft SEIS will be prepared by May 10, 2000. Public comments will be solicited, and a public hearing will be held, on the SEIS between May 20, 2000, and May 31, 2000. A final SEIS will be prepared by June 30, 2000. FTA will issue a supplemental Record of Decision (ROD) by July 10, 2000.

ADDRESSES: Correspondence requesting notification of the availability of the draft SEIS and the public hearing date and location, or commenting on the draft SEIS should be addressed to Vito Sportelli, NFTA, 181 Ellicott Street; Buffalo, New York 14203.

FOR FURTHER INFORMATION CONTACT: Anthony G. Carr, FTA Region II, One Bowling Green, Room 429; New York, New York 10004. Telephone (212) 668-2170.

SUPPLEMENTARY INFORMATION: The Buffalo Inner Harbor Project involves reconfiguring a segment of the Buffalo Inner Harbor shoreline into three areas to accommodate a commercial harbor basin with three piers, a working canal slip and a naval vessel basin. The Project also involves intermodal transportation components, including the construction of a public esplanade to provide a continuous transportation link and public access to the waterfront, connection of existing pedestrian and bicycle path systems and provision of opportunities for private development.

The State Historic Preservation Officer (SHPO) opined in June 1998 that the Buffalo Inner Harbor Project would have no adverse effect on cultural resources in or eligible for inclusion on the National Register of Historic Places. SHPO also called for a Stage III archaeological excavation of the Commercial Slip. The Commercial Slip is a former slip that connected the Erie Canal with the Buffalo River. It was filled in 1926 and is presently used as a right-of-way for the Hamburg Drain. During the Stage III excavation remains of the Commercial Slip wall were discovered, and as a result, the SHPO determined in June 1999 that the Commercial Slip wall met the criteria for inclusion in the National Register, and subsequently, the SHPO determined that exposure and public display of the Commercial Slip wall is not feasible and that the wall should be covered over as a means of preservation.

The court ordered that the SEIS must address and discuss events that occurred and information that became available subsequent to the final EIS which will affect environmental issues in a significant manner or to a significant extent not already considered in the final EIS. Specifically, the SEIS will discuss: (a) Applicability of the “archaeology exception” to the Commercial Slip wall, and to other existing historic resources, if any, at the Inner Harbor Project site; (b) Whether the Commercial Slip wall must be buried in order to protect it from the elements; (c) Whether rehabilitation, restoration or reconfiguration of the Commercial Slip wall is a reasonable and prudent alternative to burying the wall; and (d) Whether any resources at the Inner Harbor project site, other than Commercial Slip, are eligible for inclusion in the National Register, either individually or collectively. The SEIS will also address and discuss whether proposals submitted by the Preservation Coalition, and/or by other entities or individuals for the rehabilitation, restoration or reconfiguration, and/or utilization of the Commercial Slip wall, in the plan for the Inner Harbor Project, are reasonable and prudent.

Issued on: April 20, 2000.
Letitia Thompson,
Regional Administrator, Federal Transit Administration, Region II.

[FR Doc. 00-10297 Filed 4-24-00; 8:45 am]

BILLING CODE 4910-57-P